DEPARTMENT OF THE TREASURY

Internal Revenue Service

Superfund Tax on Chemical Substances; Request To Modify List of Taxable Substances; Notice of Filing for Acrylonitrile Butadiene Styrene; (a = 0.16, b = 0.10, s = 0.74); Correction

AGENCY: Internal Revenue Service (IRS), Treasury.

ACTION: Notice of Filing and Request for Comments; correction

SUMMARY: The Department of the Treasury and the IRS published a document in the Federal Register of April 3, 2025, concerning the notice of filing for acrylonitrile butadiene styrene ((C3H3N)a-(C4H6)b-(C8H8)s; a = 0.16, b = 0.10, s = 0.74), public docket number IRS-2025-0030. This document contained an incorrect date for the petition filing date for purposes of refund claims.

FOR FURTHER INFORMATION CONTACT: Camille Edwards Bennehoff at (202) 317-6855 (not a toll-free number).

SUPPLEMENTARY INFORMATION:

Correction

In the Federal Register of April 3, 2025, in 90 FR on page 14688, in the first column, correct paragraph (b)(4)(ii) to read as follows:

“(ii) Petition filing date for purposes of section 11.02 of Rev. Proc. 2022-26, as modified by section 3 of Rev. Proc. 2023-20: April 1, 2024.”

Oluwafunmilayo A. Taylor,
Section Chief, Publications and Regulations Section, Associate Chief Counsel, (Procedure and Administration).

[FR Doc. 2025-07792 Filed 5-5-25; 8:45 am]

BILLING CODE 4830-01-P